ENVIRONMENTAL PROTECTION AGENCY

[FRL-8899-6]

Extension of Public Comment Period for the Draft National Pollutant Discharge Elimination System (NPDES) General Permit for Discharges From Horse, Cattle and Dairy Cows, Swine, Poultry, and Veal Calf Concentrated Animal Feeding Operations (CAFOs) in Oklahoma (Except Indian Country)

AGENCY: Environmental Protection Agency (EPA).

ACTION: Extension of the Public Comment Period on the draft NPDES general permit for CAFOs in Oklahoma (OKG010000).

SUMMARY: On March 25, 2009, EPA Region 6 proposed to issue a general permit to cover CAFOs in Oklahoma in the Federal Register at 74 FR 12849. In response to requests from the public, EPA is extending the end of the public comment period.

DATES: The end of the public comment period is now extended to May 26, 2009. Comments must be received or postmarked by that date.

Proposed Documents: The proposed general permit and fact sheet which sets forth principal facts and the significant factual, legal, and policy questions considered in the development of the proposed general permit may both be obtained via the Internet at http://www.epa.gov/region6/water/npdes/cafo/index.htm. To obtain hard copies of these documents or any other information in the administrative record, please contact Ms. Diane Smith using the contact information provided below.

Public Comment: Interested persons may submit written comments on the draft permit to the attention of Ms. Diane Smith at the address below. Comments of either support or concern which are directed at specific, cited permit requirements are appreciated. After the expiration date of the Public Notice on May 26, 2009, EPA Region 6 will make a final determination with respect to issuance of the general permit.

Comment Submittals: Comments on the proposed General Permit should be sent to Ms. Diane Smith, Environmental Protection Agency, Water Quality Protection Division (6WQ-NP), 1445 Ross Ave., Suite 1200, Dallas, TX 75202; by e-mail to smith.diane@epa.gov; or by hand delivery during normal business hours to EPA Region 6, 7th Floor Reception Desk, 1445 Ross Ave., Suite 1200, Dallas, TX 75202.

Dated: April 24, 2009.
Ronald D. Crossland,
Acting Director, Water Quality Protection Division, EPA Region 6.

[FR Doc. E9-10065 Filed 4-30-09; 8:45 am]

BILLING CODE 6560-50-P